ENVIRONMENTAL PROTECTION AGENCY

[FRL-8190-8]

Notice of a Public Meeting on Designated Uses and Use Attainability Analyses

AGENCY: Environmental Protection Agency (EPA).

ACTION: Notice of a public meeting.

SUMMARY: The Environmental Protection Agency (EPA) is holding a public meeting to discuss designated uses and use attainability analyses. The meeting is co-sponsored with the Water Environment Federation (WEF). The primary goals of the meeting are to help educate the public on current water quality standards regulations, guidance and practices related to designated uses and use attainability analyses, and to provide a forum for the public to join in discussions, ask questions, and provide feedback.

DATES: The meeting will be held on Monday, July 31, 2006 from 1:30 p.m. to 5:30 p.m. The meeting will continue on Tuesday, August 1, 2006, from 8:30 a.m. to 1 p.m. The meeting will be preceded by an optional introductory session on the basics of designated uses as they apply to water quality standards implementation, scheduled for Monday, July 31, 2006 from 9:30 a.m. to 12 noon.

ADDRESSES: The meeting will be held at the Sheraton Seattle Hotel, 1400 Sixth Avenue, Seattle, WA 98101. The telephone number for the hotel is (206) 621-9000. A block of sleeping rooms has been reserved. When making room reservations, please reference the group name “EPA Multi-Stakeholders Meeting.” The cutoff date for the reserved block of rooms is Friday, July 7.

FOR FURTHER INFORMATION CONTACT: Ms. Patricia Harrigan, Standards and Health Protection Division, MC 4305T, Environmental Protection Agency, 1200 Pennsylvania Ave., NW., Washington, DC 20460; Telephone number: (202) 566-1666; Fax number: (202) 566-1054; e-mail address: harrigan.patricia@epa.gov.

SUPPLEMENTARY INFORMATION: The purpose of this public meeting is to help educate the public on current water quality standards regulations, guidance and practices related to designated uses and use attainability analyses, and to provide a forum for the public to join in discussions, ask questions, and provide feedback. EPA also welcomes written remarks received by July 31, 2006, which can be sent to Ms. Harrigan by e-mail or by mail at the address listed in the FOR FURTHER INFORMATION CONTACT section.

Special Accommodations

Any person needing special accommodations at this meeting, including wheelchair access, should contact Ms. Harrigan at the phone number or e-mail address listed in the FOR FURTHER INFORMATION CONTACT section. Requests for special accommodations should be made at least five business days in advance of the public meeting.

Dated: June 20, 2006.
Ephraim King,
Director, Office of Science and Technology.

[FR Doc. E6-10677 Filed 7-7-06; 8:45 am]

BILLING CODE 6560-50-P